DEPARTMENT OF THE INTERIOR

Bureau of Land Management

[LLWYP00000-L51100000-GA0000-LVEMK09CK350; WYW180711 and WYW173360]

Notice of Availability of Corrected Record of Decision for the Final Environmental Impact Statement for the South Gillette Area Maysdorf II Coal Lease by Application, WY

AGENCY: Bureau of Land Management, Interior.

ACTION: Notice of Availability.

SUMMARY: In accordance with the National Environmental Policy Act of 1969, the Bureau of Land Management (BLM) announces the availability of a Correction to the Record of Decision (ROD) for the Maysdorf II Coal Lease-by-Application (LBA) included in the South Gillette Area Coal Lease Applications Final Environmental Impact Statement (EIS).

ADDRESSES: The document is available electronically on the following Web site: http://www.blm.gov/pgdata/content/wy/en/info/NEPA/documents/hpd/SouthGillette.html. Paper copies of the Correction to the ROD are also available at the following BLM office locations:

• Bureau of Land Management, Wyoming State Office, 5353 Yellowstone Road, Cheyenne, Wyoming, 82009; and

• Bureau of Land Management, Wyoming High Plains District Office, 2987 Prospector Drive, Casper, Wyoming, 82604.

FOR FURTHER INFORMATION CONTACT: Ms. Teresa Johnson, EIS Project Manager, at 307-261-7510. Ms. Johnson's office is located at the BLM Wyoming High Plains District Office, 2987 Prospector Drive, Casper, Wyoming 82604. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This action corrects the inadvertently omitted wording and associated stipulations on page 19 in the Conformance With Existing Land Use Plans, and adds the inadvertently omitted Special Stipulations to page 32, Appendix 2, of the ROD sections of the Maysdorf II Record of Decision published in the Federal Register on Friday, August 30, 2012 (77 FR 52756). Both the original ROD and corrected ROD are available for review at http://www.blm.gov/pgdata/content/wy/en/info/NEPA/documents/hpd/SouthGillette.html.

This Corrected ROD is subject to appeal to the Interior Board of Land Appeals (IBLA), as provided in 43 CFR part 4, within thirty (30) days from the date of publication of this Notice of Availability in the Federal Register. The Corrected Record of Decision contains instructions for filing an appeal with the IBLA.

Mary J. Rugwell,
Associate State Director.

[FR Doc. 2013-07891 Filed 4-4-13; 8:45 am]

BILLING CODE 4310-22-P